ENVIRONMENTAL PROTECTION AGENCY

40 CFR Part 52

[AZ 099-0038; FRL-7000-1]

Withdrawal of Direct Final Rule Revising the Arizona State Implementation Plan, Pinal-Gila Counties Air Quality Control District and Pinal County Air Quality Control District

AGENCY: Environmental Protection Agency (EPA).

ACTION: Withdrawal of direct final rule.

SUMMARY: EPA is withdrawing direct final approval of the recision of rules from the Pinal-Gila Counties Air Quality Control District (PGCAQCD) portion of the Arizona State Implementation Plan (SIP) that were published in the Federal Register on May 1, 2001 (66 FR 21675).

EFFECTIVE DATE: The direct final rule published on May 1, 2001 is withdrawn as of June 20, 2001.

FOR FURTHER INFORMATION CONTACT: Al Petersen, Rulemaking Office, Air Division, U.S. Environmental Protection Agency, Region IX, 75 Hawthorne Street, San Francisco, CA 94105; (415) 744-1135.

SUPPLEMENTARY INFORMATION: On May 1, 2001 (66 FR 21727), EPA proposed to approve the recision of various PGCAQCD rules from the Arizona State Implementation Plan (SIP). On the same day (66 FR 21675), EPA also published a direct final rule approving the recision of these rules from the SIP. The action provided a 30 day public comment period and explained that if we received adverse comments, we would withdraw the relevant direct final action.

We did receive adverse comments, and are therefore withdrawing the direct final recision of all of the rules. We are not opening an additional comment period. We intend to finalize action on these rules based on the May 1, 2001 proposed action.

List of Subjects in 40 CFR Part 52

Environmental protection, Air pollution control, Carbon monoxide, Incorporation by reference, Intergovernmental relations, Nitrogen dioxide, Ozone, Particulate matter, Reporting and recordkeeping requirements, Volatile organic compounds.

Authority: 42 U.S.C. 7401 et seq.

Dated: June 6, 2001.
Laura Yoshii,
Acting Regional Administrator, Region IX.

[FR Doc. 01-15482 Filed 6-19-01; 8:45 am]

BILLING CODE 6560-50-P